DEPARTMENT OF LABOR

Office of the Secretary

Notice of Public Availability of Department of Labor's Revised Year 2002 Inventory

AGENCY: Office of the Secretary, Labor.

ACTION: Notice of availability of revised Department of Labor Year 2002 FAIR Act Inventory.

SUMMARY: In accordance with Section 2(c)(2)(B) of the Federal Activities Inventory Reform (FAIR) Act, 31 U.S.C. 501 et seq., announcement is made of the availability of revisions to the Department of Labor's Year 2002 FAIR Act Inventory, for which the Office of Management and Budget published an initial notice of availability in the Federal Register on February 6, 2003.

FOR FURTHER INFORMATION CONTACT: Kathy Alejandro, Deputy Director, Business Operations Center, Office of the Assistant Secretary for Administration and Management, U.S. Department of Labor, 200 Constitution Avenue, NW., Room S-1524, Washington, DC 20210. Telephone 202-693-4026.

SUPPLEMENTARY INFORMATION: As a result of the resolution of challenges to the Inventory by interested parties under Section 3 of the FAIR Act, the Department of Labor has made subsequent revisions to its 2002 Inventory, changing the classification of four Full-Time Equivalent (FTE) positions From “commercial” to “inherently governmental.” The four FTE affected by the revisions are as follows—

1 FTE—Benefits Review Board (Function Code T820, Washington, DC)

1 FTE—Employment Standards Administration (Function Code B910, Atlanta, GA)

1 FTE—Mine Safety and Health Administration (Function Code D930, Lakewood, CO)

1 FTE—Office of the Assistant Secretary for Administration and Management (Function Code D704, Washington, DC)

The revised inventory may be viewed at the Department of Labor's public Web site at: http://www.dol.gov/oasam/programs/boc/2002-commercial-activities.htm. Arrangements to receive an alternative format may be made by contacting the named individual.

Signed at Washington, DC, this 30th day of July, 2003.
Patrick Pizzella,
Assistant Secretary for Administration and Management.

[FR Doc. 03-20005 Filed 8-5-03; 8:45 am]

BILLING CODE 4510-23-P